DEPARTMENT OF LABOR

Office of the Assistant Secretary for Policy, Chief Evaluation Office

Agency Information Collection Activities; Proposed Revision of Information Collection; Comment Request. The Evaluation of the Pathway Home Grant Program (Pathway Home Evaluation)

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about The Evaluation of the Pathway Home Grant Program (Pathway Home Evaluation). A copy of the proposed Information Collection Request (ICR) can be obtained by contacting the office listed below in the addressee section of this notice.

DATES: Written comments much be submitted to the office listed in the addressee section below on or before July 31, 2023.

ADDRESSES: You may submit comments by either one of the following methods: Email: ChiefEvaluationOffice@dol.gov; Mail or Courier: Monica Mean, Chief Evaluation Office, OASP, U.S. Department of Labor, 200 Constitution Ave. NW, Room S-2312, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Monica Mean by email at ChiefEvaluationOffice@dol.gov or by phone at (202) 693-6034

SUPPLEMENTARY INFORMATION:

I. Background: The Chief Evaluation Office (CEO) of the U.S. Department of Labor (DOL) intends to conduct an evaluation of the DOL-funded Pathway Home grant program, which aims to improve the ability of people in the justice system to find meaningful employment and avoid recidivism. The goal of this four-year evaluation is to build knowledge about the implementation of the Pathway Home grantees and their effectiveness in improving employment and recidivism outcomes for adults reentering the community after incarceration.

The overall study has two components: (1) an implementation evaluation of the Pathway Home grants to describe program models and services, partnerships, and participant characteristics; and (2) an impact evaluation to examine the effectiveness of the Pathway Home grants on participants' outcomes, such as credential attainment, employment and earnings, and ongoing criminal justice involvement.

This Federal Register Notice provides the opportunity to comment on two proposed data collection instruments that the evaluation will use: follow-up survey of impact study participants, and protocol for virtual discussions with grantee staff. The follow-up survey will be used as part of the impact study to measure outcomes for study participants. The virtual discussions with grantee staff will be used as part of the implementation study to understand the sustainability of the programs.

1. Follow-up survey for impact study participants. Survey of 2,500 impact study participants conducted approximately 12-15 months after their release to collect information on topics including participants' skills and credential attainment, employment and economic wellbeing, and health and stability after reentering their communities.

2. Protocol for virtual discussions with grantee staff responsible for overseeing the grants. Small group and one-on-one virtual discussions with grant administrators to understand sustainability of the Pathway Home grantee programs.

II. Desired Focus of Comments: Currently, DOL is soliciting comments on the above data collection instruments for the Pathway Home grant program. DOL is particularly interested in comments that do the following:

a. Evaluate whether the proposed collection of information is necessary for the proper performance functions of the agency, including whether the information will have practical utility;

b. Evaluate the accuracy of the agency's burden estimate of the proposed information collection, including the validity of the methodology and assumptions;

c. Enhance the quality, utility, and clarity of the information to be collected; and

d. Minimize the burden of the collection of information on those who are to respond, including through the use of appropriate automated, electronic, mechanical, or other technological collection techniques or other forms of information technology—for example, permitting electronic submissions of responses.

III. Current Actions: At this time, DOL is requesting clearance for the follow-up survey of study participants, and the protocol for virtual group discussions with grantee staff.

Type of Review: Revision of a currently approved collection.

Agency: Office of the Assistant Secretary for Policy, Chief Evaluation Office, Department of Labor.

OMB Control Number: 1290-0039.

Affected Public: Individuals or Households.

Annual Respondent or Recordkeeper Cost: There are no direct costs to respondents.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Follow-up survey of study participants | ¹ 533 | 1 | 533 | .42 | 222
Protocol for program administrators and frontline staff virtual discussions: Grant administrators | ² 13 | 1 | 13 | 1.5 | 20
Total | 546 |  | 546 |  | 242
¹ This assumes we will survey the 2,500 impact study participants enrolled at baseline and obtain a 64 percent response rate. This results in 533 respondents when annualized over three years.
² This assumes we invite a total of 44 grant administrators to participate in the discussions, with a 90 percent response rate. This results in 13 respondents when annualized over three years.

Karen Livingston,
Acting Chief Evaluation Officer, U.S. Department of Labor.

[FR Doc. 2023-11455 Filed 5-30-23; 8:45 am]

BILLING CODE 4510-HX-P